DEPARTMENT OF TRANSPORTATION

National Highway Traffic Safety Administration

[Docket No. NHTSA-2025-0028]

Agency Information Collection Activities; Notice and Request for Comment; Motorcycle Helmets (Labeling)

AGENCY: National Highway Traffic Safety Administration (NHTSA), Department of Transportation (DOT).

ACTION: Notice and request for comments on a request for extension of a currently-approved information collection.

SUMMARY: NHTSA invites public comments about our intention to request approval from the Office of Management and Budget (OMB) for an extension of a currently-approved information collection titled “Motorcycle Helmets (Labeling)” (OMB Control Number: 2127-0518). Before a Federal agency can collect certain information from the public, it must receive approval from OMB. Under procedures established by the Paperwork Reduction Act of 1995, before seeking OMB approval, Federal agencies must solicit public comment on proposed collections of information, including extensions and reinstatement of previously approved collections. This document describes a collection of information for which NHTSA intends to seek OMB approval on Motorcycle Helmets Labeling.

DATES: Comments must be submitted on or before August 4, 2025.

ADDRESSES: You may submit comments identified by the Docket No. NHTSA-2025-0028 through any of the following methods:

• Electronic submissions: Go to the Federal eRulemaking Portal at https://www.regulations.gov. Follow the online instructions for submitting comments.

• Fax: (202) 493-2251.

• Mail or Hand Delivery: Docket Management, U.S. Department of Transportation, 1200 New Jersey Avenue SE, West Building, Room W12-140, Washington, DC 20590, between 9 a.m. and 5 p.m., Monday through Friday, except on Federal holidays. To be sure someone is there to help you, please call (202) 366-9322 before coming.

Instructions: All submissions must include the agency name and docket number for this notice. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit https://www.transportation.gov/privacy.

Docket: For access to the docket to read background documents or comments received, go to https://www.regulations.gov or the street address listed above. Follow the online instructions for accessing the dockets via internet.

FOR FURTHER INFORMATION CONTACT: For additional information or access to background documents, contact Mrs. Cristina Echemendia, U.S. Department of Transportation, NHTSA, 1200 New Jersey Avenue SE, West Building Room W43-447, NRM-130, Washington, DC 20590. Mrs. Cristina Echemendia's telephone number is 202-366-1810 and fax number is 202-366-7002. Please identify the relevant collection of information by referring to its OMB Control Number.

SUPPLEMENTARY INFORMATION: Under the Paperwork Reduction Act of 1995 (44 U.S.C. 3501 et seq.), before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following: (a) whether the proposed collection of information is necessary for the proper performance of the functions of the agency, including whether the information will have practical utility; (b) the accuracy of the agency's estimate of the burden of the proposed collection of information, including the validity of the methodology and assumptions used; (c) how to enhance the quality, utility, and clarity of the information to be collected; and (d) how to minimize the burden of the collection of information on those who are to respond, including the use of appropriate automated, electronic, mechanical, or other technological collection techniques or other forms of information technology, e.g., permitting electronic submission of responses. In compliance with these requirements, NHTSA asks for public comments on the following proposed collection of information for which the agency is seeking approval from OMB.

Title: “Motorcycle Helmets (Labeling)”.

OMB Control Number: 2127-0518.

Form Number(s): N/A.

Type of Request: Extension of a currently approved collection.

Requested Expiration Date of Approval: Three years from the approval date.

Summary of the Collection of Information: The National Traffic and Motor Vehicle Safety Act authorizes the Secretary of Transportation (NHTSA by delegation), at 49 U.S.C. 30111, to issue Federal Motor Vehicle Safety Standards (FMVSS) that set performance standards for motor vehicles and items of motor vehicle equipment. Vehicle and equipment manufacturers must certify that their vehicles or equipment comply with these standards. Further, the Secretary (NHTSA by delegation) is authorized, at 49 U.S.C. 30117, to require manufacturers to provide information to first purchasers of motor vehicles or motor vehicle equipment when the vehicle or equipment is purchased, in the form of printed matter placed in the vehicle or attached to the vehicle or motor vehicle equipment.

Using this authority, NHTSA issued the initial FMVSS No. 218, “Motorcycle helmets,” in 1974. Motorcycle helmets are devices used to protect motorcyclists from head injury in motor vehicle accidents. The standard requires the manufacturer to label every helmet it produces to indicate compliance with the requirements of the Standard. The certification label consists of the symbol “DOT,” the term “FMVSS No. 218,” the word “CERTIFIED,” the precise model designation, and the manufacturer's name and/or brand on the outer shell of the helmet towards the posterior bottom edge. Manufacturers are also required to label every helmet to provide helmet owners with important safety information including manufacturer's name, discrete size, month and year of manufacture, and specific instructions. FMVSS No. 218 S5.6 requires that each helmet shall be labeled permanently and legibly in a manner such that the label(s) can be read easily without removing padding or any other permanent part.

Description of the Need for the Information and Proposed Use of the Information: The labeling requirement in the Standard supports the Department of Transportation's strategic goal in safety, by ensuring that motorcycle helmets are manufactured and certified to the performance requirements of the Standard. NHTSA uses this information for enforcement purposes to ensure that manufacturers certify compliance with the Standard. State and local law enforcement use this information to enforce helmet-use laws, and consumers use the information to make decisions when purchasing motorcycle helmets.

Affected Public: Motorcycle helmet manufacturers.

Estimated Number of Respondents: 45.

Frequency: On occasion.

Estimated Total Annual Burden Hours: 10,900 hours.

NHTSA estimates the total burden hours of the collection of information for Standard No. 218 is 10,900 hours (900 hours for label design + 10,000 hours for affixing labels) annually. NHTSA estimates that 3,600,000 motorcycle helmets are manufactured annually by 45 motorcycle helmet manufacturers. The total associated labor costs for designing and affixing the label is $430,384 ($42,984 + $387,400), see below for calculation details.

Each helmet utilizes a generalized template for the required information to include in the helmet labels. The basic format of each manufacturer's label has not changed, and a onetime design of the label template was created many years ago. Therefore, there is no new annualized burden associated with template development. Specific helmet labels can be readily created through insertion of the helmet's specific information into the generalized template. The annual administrative burden to either develop a new label or reconfirm an existing label is estimated to be on the order of 2.0 hours per manufacturer for each helmet model. For the purpose of this evaluation, a point estimate of 450 helmet model labels per year ¹ is made in order to estimate annualized costs. For the helmet label design, NHTSA uses the mean wage of $33.62 per hour for “Mechanical Drafters” (occupational code 17-3013).² BLS estimates that hourly wages represent approximately 70.4% of total compensation for private industry workers.³ NHTSA estimates the total hourly labor cost associated with this employee to be $47.76 per hour ($33.62 per hour/0.704). The annual burden for manufacturers to develop helmet labels is 900 hours (450 label designs * 2.0 hours per label) and $42,984 (450 label designs * 2.0 hours per label design * $47.76 per hour).

¹ NHTSA estimates 10 helmet models per Helmet Manufacturer for the purpose of this evaluation.

² U.S. Bureau of Labor Statistics, Occupational Employment and Wages, May 2023, occupant category 17-3013 Mechanical Drafters, https://www.bls.gov/oes/current/oes173013.htm, accessed March 12, 2025.

³ Table 1. Employer Costs for Employee Compensation by ownership, September 2024, https://www.bls.gov/news.release/ecec.t01.htm.

Number of respondents (helmet manufacturers) | Number of helmets produced annually (per respondent) | Time to design label per helmet model (hours) | Estimated total annual burden hours (per respondent) | Total labor cost per hour (rounded) | Labor cost (per respondent) (rounded) | Estimated total annual burden hours | Estimated total annual labor cost (rounded)
45 | 80,000 | 2 | 20 | $47.76 | $955 | 900 | $42,984

NHTSA also estimates that 10 seconds are spent labeling each helmet. Therefore, the estimated total annual burden hours for labeling each helmet is 10,000 hours (= (3,600,000 helmets × 10 seconds) * (1 hour/3600 seconds)).

For the labor costs associated with the burden hours for affixing labels to helmets, NHTSA uses the average wage of $27.27 per hour for “Assemblers and Fabricators” (occupational code 51-2000) published by the Bureau of Labor Statistics (BLS).⁴ BLS estimates that wages represent approximately 70.4% of total compensation for private industry workers. Therefore, NHTSA calculates the labor cost associated with Assemblers and Fabricators to be $38.74 per hour ($27.27 ÷ 0.704). Multiplying that hourly rate by the estimated 10,000 labor hours needed to affix labels yields an estimated total annual labor cost of $387,400 ($38.74 × 10,000 hours). The total estimated burden hours and associated labor costs for affixing the label are detailed in the table below:

⁴ November 2024 National Industry-Specific Occupational Employment and Wage Estimates, NAICS 336100—Motor Vehicle Manufacturing, https://www.bls.gov/oes/current/naics4_336100.htm#51-0000.

Number of respondents (helmet manufacturers) | Number of helmets produced annually per respondent (rounded) | Time to affix label per helmet (seconds) | Estimated total annual burden hours (per respondent) (rounded) | Total labor cost per hour (rounded) | Labor cost (per respondent) (rounded) | Estimated total annual burden hours | Estimated total annual labor cost (rounded)
45 | 80,000 | 10 | 222 | $38.74 | $8,600 | 10,000 | $387,400

Estimated Total Annual Burden Cost: $1,512,000.

The total annual cost to the respondents is estimated to be $1,512,000. NHTSA estimates that the printing and material cost per helmet is $0.42. The total annual cost to respondents is calculated by multiplying the printing and material cost ($0.42) by the estimated 3,600,000 responses (helmets produced) per year ($0.42 × 3,600,000). The total estimated annual burden costs are detailed in the table below:

Number of respondents (helmet manufacturers) | Number of helmets produced annually per respondent (rounded) | Printing and material cost per helmet | Annual printing and material cost per manufacturer (rounded) | Total number for helmets produced annually | Estimated total annual printing and material costs
45 | 80,000 | $0.42 | $33.600 | 3,600.000 | $1,512,000

Public Comments Invited: You are asked to comment on any aspects of this information collection, including (a) whether the proposed collection of information is necessary for the proper performance of the functions of the Department, including whether the information will have practical utility; (b) the accuracy of the Department's estimate of the burden of the proposed information collection; (c) ways to enhance the quality, utility, and clarity of the information to be collected; and (d) ways to minimize the burden of the collection of information on respondents, including the use of automated collection techniques or other forms of information technology.

Authority: The Paperwork Reduction Act of 1995; 44 U.S.C. Chapter 35, as amended; 49 CFR 1.49; and DOT Order 1351.29A.

David Hines,
Acting Associate Administrator for Rulemaking.

[FR Doc. 2025-10111 Filed 6-3-25; 8:45 am]

BILLING CODE 4910-59-P